DEPARTMENT OF THE INTERIOR

Bureau of Land Management

[LLNMF02000.L16100000.DP0000]

Notice of Intent to Amend the Resource Management Plan for the Taos Field Office and Prepare an Associated Environmental Assessment for the Río Grande del Norte National Monument, NM

AGENCY: Bureau of Land Management, Interior.

ACTION: Notice of intent.

SUMMARY: In compliance with the National Environmental Policy Act of 1969, as amended (NEPA), the Federal Land Policy and Management Act of 1976, as amended (FLPMA), and Presidential Proclamation No. 8946 (Establishment of the Rio Grande del Norte National Monument) (March 25,2013), the Bureau of Land Management (BLM) Taos Field Office, Taos, New Mexico, intends to prepare a Resource Management Plan (RMP) Amendment with an associated Environmental Assessment (EA) for the Río Grande del Norte National Monument (Monument) and by this notice is announcing the beginning of the scoping process to solicit public comments and identify issues.

DATES: This notice initiates the public scoping process for the RMP Amendment and associated EA. Comments on issues may be submitted in writing until February 18, 2014.

The date(s) and location(s) of any scoping meetings will be announced at least 15 days in advance through local news media, newspapers, and the BLM Web site at: http://www.blm.gov/nm/riograndedelnorte

In order to be included in the analysis, all comments must be received prior to the close of the 45-day scoping period or 30 days after the last public meeting, whichever is later. We will provide additional opportunities for public participation as appropriate.

ADDRESSES: You may submit comments on issues and planning criteria related to the Monument plan and EA by any of the following methods:

• Web site: http://www.blm.gov/nm/riograndedelnorte

• Email: blm_nm_tafo_comments@blm.gov

• Fax: 575-758-1620

• Mail: BLM Taos Field Office, Attention: Brad Higdon, 226 Cruz Alta Road, Taos, NM 87571

Documents pertinent to this proposal may be examined at the Taos Field Office at 226 Cruz Alta Road in Taos, New Mexico.

FOR FURTHER INFORMATION CONTACT: Brad Higdon, Planning and Environmental Specialist, and to have your name added to our mailing list at telephone 575-751-4725; address 226 Cruz Alta Road, Taos, NM 87571; or by email bhigdon@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Taos Field Office, New Mexico, intends to prepare an RMP Amendment with an associated EA for the Monument, announces the beginning of the scoping process, and seeks public input on issues and planning criteria. The planning area is located in Taos and Rio Arriba Counties, New Mexico, and encompasses approximately 242,500 acres of public land. The Monument was established on March 25, 2013, by Presidential Proclamation (Proclamation) for the purposes of protecting the historic and scientific values of the Rio Grande and Rio San Antonio Gorges and the Taos Plateau. The Proclamation specified that the BLM “shall prepare and maintain a management plan for the monument and provide for maximum public involvement in the development of the plan including, but not limited to, consultation with tribal, State, and local governments as well as community land grant and acequia associations.” A majority of the planning area was previously managed as an Area of Critical Environmental Concern under the Taos RMP, completed in 2012. The purpose of the public scoping process is to determine relevant issues that will influence the scope of the environmental analysis, including alternatives, and guide the planning process. Preliminary issues for the plan amendment area have been identified by BLM personnel, Federal, State, and local agencies; and other stakeholders. The issues include those associated with the objects and resources for which the monument was designated, including cultural, ecological, geological, and wildlife; opportunities for recreation and interpretation; and land use authorizations, such as rights-of-way for utilities transmission. Preliminary planning criteria include: (1) The plan amendment will adhere to the mandates of the Presidential Proclamation which established the Monument; (2) The plan amendment will be developed in compliance with FLPMA, NEPA, and all other applicable laws, regulations, Executive and Secretarial Orders, and policies; (3) The RMP will incorporate, where appropriate, management decisions brought forward from the Taos RMP, approved in May 2012; (4) Broad-based public participation and collaboration will be an integral part of the planning process; (5) The planning process will provide for ongoing consultation with Native American tribal governments and strategies for protecting traditional uses; (6) The BLM will work collaboratively with cooperating agencies and all other interested groups, agencies, and individuals; and (7) The plan amendment will recognize the State of New Mexico's authority to manage wildlife and will encourage a cooperative partnership with the New Mexico Department of Game and Fish.

You may submit comments on issues and planning criteria in writing to the BLM at any public scoping meeting, or you may submit them to the BLM using one of the methods listed in the ADDRESSES section above. To be most helpful, you should submit comments by the close of the 45-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action, are invited to participate in the scoping process and, if eligible, may request or be requested by the BLM to participate as a cooperating agency. Before including your address, phone number, email address, or other personal identifying information in your comment, you should be aware that your entire comment □ including your personal identifying information □ may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP Amendment/EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Archaeology, geology, wildlife and fisheries, rangeland ecology and management, outdoor recreation, forestry, and lands and realty.

Authority: 40 CFR 1501.7 and 43 CFR 1610.2.

Aden L. Seidlitz,
Associate State Director.

[FR Doc. 2013-31440 Filed 1-2-14; 8:45 am]

BILLING CODE 4310-FB-P